SOCIAL SECURITY ADMINISTRATION

Modifications to the Disability Determination Procedures; Disability Claims Process Redesign Prototype

AGENCY: Social Security Administration.

ACTION: Notice of revision to the disability prototype in the State of New York.

SUMMARY: The Social Security Administration is announcing a revision to the disability prototype in the State of New York. The test will be performed in those locations in the State of New York, listed below, that are not already processing cases under the disability prototype. In addition, the test will measure the operational impact of modifying the process by “grandfathering” pending initial claims in the additional locations into the prototype process.

DATES: Selection of cases to be included in this test will begin on January 2, 2001 in one location, and on April 2, 2001 in the other locations, according to the schedule outlined under SUPPLEMENTARY INFORMATION. Case selection is expected to end on or about December 31, 2001. If the Agency decides to continue the test beyond this date, we will publish another notice in the Federal Register.

FOR FURTHER INFORMATION CONTACT: Phil Landis, Director, Disability Process Redesign Staff, Office of Disability, Social Security Administration, 6401 Security Boulevard, Baltimore, MD 21235, (410) 965-5388.

SUPPLEMENTARY INFORMATION: Current rules codified at 20 CFR 404.906 and 416.1406 authorize us to test modifications to the disability determination procedures individually or in any combination. Under this authority, several tests have been conducted, including a prototype that incorporates several modifications to the disability determination procedures employed by State disability determination services (DDS) which have been shown to be effective in earlier tests. (64 FR 47218.) The prototype incorporates a series of changes that improve the initial disability determination process by: Providing greater decisional authority to the disability examiner and making more effective use of the expertise of the medical consultant; ensuring appropriate development and explanation of key issues; increasing opportunities for claimant interaction with the decision maker before a determination is made; and simplifying the appeals process by eliminating the reconsideration step. When we started the prototype on October 1, 1999, we applied the modified process only to claims filed on or after October 1, 1999 in certain States, or parts of States. With respect to claims in the State of New York, we announced that only applicants whose initial disability claims were processed by certain branches of the DDS in New York would participate in the prototype. The Federal Register notice listed those branches of the DDS in New York where the prototype would be applied. (64 FR at 47219.)

We are now announcing that we will test the prototype process in the remaining branches of the DDS in New York, and in addition test the effect of “grandfathering” pending claims in those branches into the modified process in the remaining branches of the DDS in New York. “Grandfathering” means that, in addition to following the modified processes for claims filed on or after a certain date, we will follow the modified process for initial claims filed before that date if the disability determination forms that we use to have the State agency certify the determination of disability to us have not been signed by a disability examiner and, if applicable, by a medical or psychological consultant by that date. Thus, in this test, we will apply the modified processes to: (1) New initial claims filed on or after the controlling date (see below), and (2) initial claims that are filed before that date but for which the disability determination forms we use to have the State agency certify the disability determination have not been signed by a disability examiner and, if applicable, by a medical or psychological consultant as of that date. We will send a letter explaining the process modifications to individuals whose pending claims are grandfathered into the modified process.

This means that the modified processes, including the opportunity for a claimant conference with the decision maker and elimination of the reconsideration step of the administrative review process, will be used for pending initial claims, resulting in fewer reconsideration claims flowing to the test site after the modified process is implemented. We believe this change will provide us with information that will enable us to manage the transition to the modified process more effectively and result in better service for all disability applicants. In order to measure the effect of this change on our operations, we will begin to follow the modified process in the following locations beginning on the date indicated for each location:

State of New York

Office of Temporary and Disability Assistance, Division of Disability Determinations, Region III, 22 Cortlandt Street, 6th Floor, New York, New York 10007-3107. Controlling date: January 2, 2001.

Office of Temporary and Disability Assistance, Division of Disability Determinations, Region I, 22 Cortlandt Street, 4th Floor, New York, New York 10007-3107. Controlling date: April 2, 2001.

Office of Temporary and Disability Assistance, Division of Disability Determinations, Region IV, 92-31 Union Hall Street, 6th Floor, Jamaica, New York, 11433-1127. Controlling date: April 2, 2001.

Office of Temporary and Disability Assistance, Division of Disability Determinations, Region V, Building #16, 3rd Floor, Glendale Technology Park Endicott, New York 13760. Controlling date: April 2, 2001.

Office of Temporary and Disability Assistance, Division of Disability Determinations, Region VII, Building #16, 2nd Floor, Glendale Technology Park Endicott, New York 13760. Controlling date: April 2, 2001.

Office of Temporary and Disability Assistance, Office of Disability Determinations—Region IX, Ellicott Square Building, Room 650, 295 Main Street, Buffalo, New York 14203-2412. Controlling date: April 2, 2001.

Dated: December 18, 2000.
Glenna K. Donnelly,
Assistant Deputy Commissioner for Disability and Income Security Programs.

[FR Doc. 00-32833 Filed 12-22-00; 8:45 am]

BILLING CODE 4191-50-P